COMMITTEE FOR PURCHASE FROM PEOPLE WHO ARE BLIND OR SEVERELY DISABLED

Procurement List Proposed Additions

AGENCY: Committee for Purchase From People Who Are Blind or Severely Disabled.

ACTION: Proposed additions to Procurement List.

SUMMARY: The Committee is proposing to add to the Procurement List commodities and services to be furnished by nonprofit agencies employing persons who are blind or have other severe disabilities.

COMMENTS MUST BE RECEIVED ON OR BEFORE: November 26, 2001.

ADDRESS: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in this notice for each commodity and service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46-48c) in connection with the commodities and services proposed for addition to the Procurement List. Comments on this certification are invited. Commenters should identify the statement(s) underlying the certification on which they are providing additional information.

The following commodities and services are proposed for addition to the Procurement List for production by the nonprofit agencies listed:

Commodities

Shelf Assembly, Top, 3920-00-000-8908

NPA: Rauch Rehabilitation & Developmental Services, Inc., New Albany, Indiana

GOVERNMENT AGENCY: U.S. Postal Service, Topeka, Kansas

Ballistic Protection Carrier, 8470-00-NSH-0001

NPA: Chautauqua County Chapter, NYSARC, Jamestown, New York

GOVERNMENT AGENCY: U.S. Army Acquisition Center, Natick, Massachusetts

Insert, Flotation, Hardcell, 8470-00-NSH-0002

NPA: Chautauqua County Chapter, NYSARC, Jamestown, New York

GOVERNMENT AGENCY: U.S. Army Acquisition Center, Natick, Massachusetts

Pocket, Helicopter Aviation Breathing Device, 8470-00-NSH-0003

NPA: Chautauqua County Chapter, NYSARC, Jamestown, New York

GOVERNMENT AGENCY: U.S. Army Acquisition Center, Natick, Massachusetts

Services

File Maintenance, VA Medical Center, Northport, New York

NPA: The Corporate Source, Inc., New York, New York

GOVERNMENT AGENCY: VA Medical Center

Office Supply Store, Federal Building, 700 W. Capitol, Little Rock, Arkansas

NPA: The Arkansas Lighthouse for the Blind, Little Rock, Arkansas

GOVERNMENT AGENCY: GSA, Public Building Services

Operation of Support Services, National Advocacy Center, 1620 Pendleton Street, Columbia, South Carolina

NPA: CCAR Services, Inc., Green Cove Springs, Florida

GOVERNMENT AGENCY: National Advocacy Center

Sheryl D. Kennerly,
Director, Information Management.

[FR Doc. 01-27039 Filed 10-25-01; 8:45 am]

BILLING CODE 6353-01-P